DEPARTMENT OF ENERGY

Federal Energy Regulatory Commission

[Project No. 13349-000]

Square Butte Hydro, LLC; Notice of Preliminary Permit Application Accepted for Filing and Soliciting Comment, Motions To Intervene, and Competing Applications

March 25, 2009.

On December 23, 2008, Square Butte Hydro, LLC (Butte Hydro), filed an application for a preliminary permit, pursuant to section 4(f) of the Federal Power Act, proposing to study the feasibility of the Square Butte Pumped Storage Project (project). The proposed project would be located near Great Falls, Cascade County, Montana. The sole purpose of the preliminary permit, if issued, is to grant the permit holder priority to file a license application during the permit term. A preliminary permit does not authorize the permit holder to perform any land-disturbing activities or otherwise enter upon lands or waters owned by others without the owners' expressed permission.

The proposed project would consist of: (1) A proposed upper earthen dam 7,870-foot-long, 110-foot-high with approximately 9,540-acre-foot storage reservoir, having a surface area of approximately 152 acres with a normal maximum surface elevation of 4,760 feet mean sea level; (2) a proposed lower earthen dam 7,940-foot-long, 130-foot-high with approximately 10,550-acre-foot storage reservoir, having a surface area of approximately 151 acres with a normal maximum surface elevation of 3,740 feet mean sea level; (3) a proposed 4,650-foot-long, 31-foot-diameter steel penstock; (4) a proposed 500-foot-long, 120-foot-wide, 80-foot-high powerhouse containing 10-103-megawatt generating units; (5) a proposed 20.4-mile-long, 500-kV transmission line, and (6) appurtenant facilities. The project would have an average annual generation of approximately 2,150,000 megawatt-hours.

Applicant Contact: Square Butte Hydro, LLC, 975 South State Highway, Logan, Utah 84321, phone (435) 752-2580, Agent: Mr. Brent L. Smith, COO, Symbiotics, LLC, P.O. Box 535, Rigby, Idaho 83442, (208) 745-0834.

FERC Contact: Gaylord Hoisington, (202) 502-6032.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13349) in the docket number field to access the document. For assistance, call toll-free 1-866-208-3372.

Kimberly D. Bose,
Secretary.

[FR Doc. E9-7237 Filed 3-31-09; 8:45 am]

BILLING CODE